DEPARTMENT OF DEFENSE

Office of the Secretary

[Docket ID: DoD-2015-OS-0101]

Privacy Act of 1974; System of Records

AGENCY: Office of the Secretary of Defense, DoD.

ACTION: Notice to alter an existing System of Records.

SUMMARY: The Office of the Secretary of Defense proposes to alter an existing system of records, DPR 32, entitled “Employer Support of the Guard and Reserve Ombudsman and Outreach Programs” to record information related to the mediation of disputes and answering of inquiries related to the USERRA; by tracking case assignments and mediation results of potential conflicts between employers and the National Guard, Reserves, or NDMS members they employ; and by reporting statistics related to the Ombudsman Program in aggregate and at the state committee-level. These records are also used as a management tool for statistical analysis, tracking, reporting, evaluating program effectiveness and conducting research.

DATES: Comments will be accepted on or before November 23, 2015. This proposed action will be effective the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571)372-0461.

SUPPLEMENTARY INFORMATION: The Office of the Secretary of Defense notices for systems of records subject to the Privacy Act of 1974 (5 U.S.C. 552a), as amended, have been published in the Federal Register and are available from the address in FOR FURTHER INFORMATION CONTACT or at http://dpcld.defense.gov/. The proposed system report, as required by 5 U.S.C. 552a(r) of the Privacy Act of 1974, as amended, was submitted on August 27, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: October 20, 2015.
Morgan F. Park,
Alternate OSD Federal Register Liaison Officer, Department of Defense.

DPR 32

System name:

Employer Support of the Guard and Reserve Ombudsman and Outreach Programs (November 14, 2007, 72 FR 64058).

Changes:

System Identifier:

Delete entry and replace with “DHRA 16.”

System name:

Delete entry and replace with “Inquiry and Case Management System (ICMS).”

System location:

Delete entry and replace with “Defense Information Systems Agency (DISA), Computing Directorate Mechanicsburg, 5450 Carlisle Pike, Mechanicsburg, PA 17050-2411.

Backup: Iron Mountain, 1665 S 5350 W., Salt Lake City, UT 84104-4721.”

Categories of individuals covered by the system:

Delete entry and replace with “Members of the National Guard, Reserves, and National Disaster Medical System (NDMS) who submit inquiries or request mediation; Employer Support of the Guard and Reserve (ESGR) employees; civilian employers; contractors and volunteers who handle inquiries and cases; and those who submit inquiries.”

Categories of records in the system:

Delete entry and replace with “Individual's full name, home address, phone number, email address; current Uniformed Service and Service member pay grade; ESGR case number; type of Uniformed Services Employment and Reemployment Rights Act (USERRA) issue; employer name, employer type, employer's contact name, contact phone, email and address; name, email and state committee/ESGR affiliation of ESGR employee, contractor, or volunteer that handles an inquiry or mediation case; and case notes.”

Authority for maintenance of the system:

Delete entry and replace with “38 U.S.C. 43, Employment and Reemployment Rights of Members of the Uniformed Services; 5 U.S.C. 574, Confidentiality; 5 U.S.C. Part I, Chapter 5, Subchapter IV, Alternative Means of Dispute Resolution in the Administrative Process; 42 U.S.C. 300hh-11, National Disaster Medical System, ((d)(3) Employment and reemployment rights); 20 CFR 1002, Regulations Under the Uniformed Services Employment and Reemployment Rights Act of 1994; 5 CFR 353, Restoration to Duty from Uniformed Service or Compensable Injury; DoD Directive 1250.01, National Committee for Employer Support of the Guard and Reserve (NCESGR); DoD Instruction 1205.22, Employer Support of the Guard and Reserve; and DoD Instruction 1205.12, Civilian Employment and Reemployment Rights of Applicants for, and Service Members and Former Service Members of the Uniformed Services.”

Purpose(s):

Delete entry and replace with “To record information related to the mediation of disputes and answering of inquiries related to the USERRA; by tracking case assignments and mediation results of potential conflicts between employers and the National Guard, Reserves, or NDMS members they employ; and by reporting statistics related to the Ombudsman Program in aggregate and at the state committee-level. These records are also used as a management tool for statistical analysis, tracking, reporting, evaluating program effectiveness and conducting research.”

Routine uses of records maintained in the system, including categories of users and the purposes of such uses:

Delete entry and replace with “In addition to those disclosures generally permitted under 5 U.S.C. 552a(b) of the Privacy Act of 1974, as amended, the records contained herein may be disclosed outside the DoD as a routine use pursuant to 5 U.S.C. 552a(b)(3) as follows:

To Department of Labor for Congressionally-mandated USERRA reporting (38 U.S.C. Employment and Reemployment Rights of Members of the Uniformed Services § 4432, Reports).

Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Disclosure When Requesting Information Routine Use: A record from a system of records maintained by a DoD Component may be disclosed as a routine use to a federal, state, or local agency maintaining civil, criminal, or other relevant enforcement information or other pertinent information, such as current licenses, if necessary to obtain information relevant to a DoD Component decision concerning the hiring or retention of an employee, the issuance of a security clearance, the letting of a contract, or the issuance of a license, grant, or other benefit.

Disclosure of Requested Information Routine Use: A record from a system of records maintained by a DoD Component may be disclosed to a federal agency, in response to its request, in connection with the hiring or retention of an employee, the issuance of a security clearance, the reporting of an investigation of an employee, the letting of a contract, or the issuance of a license, grant, or other benefit by the requesting agency, to the extent that the information is relevant and necessary to the requesting agency's decision on the matter.

Congressional Inquiries Disclosure Routine Use: Disclosure from a system of records maintained by a DoD Component may be made to a congressional office from the record of an individual in response to an inquiry from the congressional office made at the request of that individual.

Disclosure to the Office of Personnel Management Routine Use: A record from a system of records subject to the Privacy Act and maintained by a DoD Component may be disclosed to the Office of Personnel Management (OPM) concerning information on pay and leave, benefits, retirement deduction, and any other information necessary for the OPM to carry out its legally authorized government-wide personnel management functions and studies.

Disclosure to the Department of Justice for Litigation Routine Use: A record from a system of records maintained by a DoD Component may be disclosed as a routine use to any component of the Department of Justice for the purpose of representing the Department of Defense, or any officer, employee or member of the Department in pending or potential litigation to which the record is pertinent.

Disclosure of Information to the National Archives and Records Administration Routine Use: A record from a system of records maintained by a DoD Component may be disclosed as a routine use to the National Archives and Records Administration for the purpose of records management inspections conducted under authority of 44 U.S.C. 2904 and 2906.

Disclosure to the Merit Systems Protection Board Routine Use: A record from a system of records maintained by a DoD Component may be disclosed as a routine use to the Merit Systems Protection Board, including the Office of the Special Counsel for the purpose of litigation, including administrative proceedings, appeals, special studies of the civil service and other merit systems, review of OPM or component rules and regulations, investigation of alleged or possible prohibited personnel practices; including administrative proceedings involving any individual subject of a DoD investigation, and such other functions, promulgated in 5 U.S.C. 1205 and 1206, or as may be authorized by law.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

The DoD Blanket Routine Uses set forth at the beginning of the Office of the Secretary of Defense (OSD) compilation of systems of records notices may apply to this system. The complete list of DoD Blanket Routine Uses can be found online at: http://dpcld.defense.gov/Privacy/SORNsIndex/BlanketRoutineUses.aspx”

Storage:

Delete entry and replace with “Electronic storage media.”

Retrievability:

Delete entry and replace with “Individual's full name and ESGR case number.”

Safeguards:

Delete entry and replace with “Physical controls include combination locks, cipher locks, key cards, identification badges, closed circuit televisions, and controlled screenings. Technical controls include user identification and password, intrusion detection system, encryption, Common Access Card, firewall, virtual private network, role-based access controls, and two-factor authentication. Administrative controls include periodic security audits, regular monitoring of users' security practices, methods to ensure only authorized personnel access information, encryption of backups containing sensitive data, backups secured off-site, and use of visitor registers.”

Retention and disposal:

Delete entry and replace with “Temporary. Contact information (email, phone number, details/notes of questions asked) from the inquiry data destroy 90 days after inquiry has been closed.

Masterfile: Destroy 3 years after settlement is implemented or case is discontinued.”

System manager(s) and address:

Delete entry and replace with “Executive Director, Headquarters, Employer Support of the Guard and Reserve, 4800 Mark Center Drive, Alexandria, VA 22350-1200.”

Notification procedure:

Delete entry and replace with “Individuals seeking to determine if information about themselves is contained in this system of records should address written inquiries to the Executive Director, Headquarters, Employer Support of the Guard and Reserve, 4800 Mark Center Drive, Alexandria, VA 22350-1200.

Signed, written requests should contain the individual's full name and personal contact information (address, phone number, and email).”

Record access procedures:

Delete entry and replace with “Individuals seeking access to records about themselves contained in this system should address written inquiries to the Office of the Secretary of Defense/Joint Staff, Freedom of Information Act Requester Service Center, Office of Freedom of Information, 1155 Defense Pentagon, Washington, DC 20301-1155.

Signed, written requests should include the individual's full name and personal contact information (address, phone number, email) and the name and number of this system of records notice.”

* * * * *

Record source categories:

Delete entry and replace with “Individual, and Member Management System (MMS).”

* * * * *

[FR Doc. 2015-27012 Filed 10-22-15; 8:45 am]

BILLING CODE 5001-06-P